DEPARTMENT OF TRANSPORTATION

Federal Aviation Administration

14 CFR Part 73

[Docket No. FAA-2016-9495; Airspace Docket No. 15-AAL-6]

RIN 2120-AA66

Establishment of Restricted Areas R-2201A, B, C, D; Fort Greely, AK

AGENCY: Federal Aviation Administration (FAA), DOT.

ACTION: Final rule.

SUMMARY: This action establishes restricted areas R-2201A, R-2201B, R-2201C, and R-2201D; Fort Greely, AK, on behalf of by the United States Army Alaska (USARAK), over the Battle Area Complex (BAX) and Combined Arms Collective Training Facility (CACTF), in the vicinity of Allen Army Airfield, AK. The restricted areas contain hazardous activities and will be available for joint military use, including active, National Guard and Reserve elements.

DATES: Effective date 0901 UTC, October 10, 2019.

FOR FURTHER INFORMATION CONTACT: Kenneth Ready, Airspace Policy and Regulations Group, Office of Airspace Services, Federal Aviation Administration, 800 Independence Avenue SW, Washington, DC 20591; telephone: (202) 267-8783.

SUPPLEMENTARY INFORMATION:

Authority for This rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes restricted areas at Fort Greely, AK, to support the United States Army in Alaska and to accommodate essential joint training requirements.

History

The FAA published a notice of proposed rulemaking for Docket No. FAA-2016-9495 in the Federal Register (82 FR 12529; March 6, 2017), proposing to establish restricted areas R-2201A, B, C, D, E, F, G, H, and J; Fort Greely, AK. In response to public comments expressing concerns over the impact to general aviation aircraft, the FAA subsequently published a Supplemental NPRM for Docket No. FAA-2016-9495 in the Federal Register (83 FR 1316; January 11, 2018), that would reduce the overall size of the proposed restricted areas by 50 percent and establishing restricted areas R-2201A, B, C, and D; Fort Greely, AK.

Interested parties were invited to participate in this rulemaking effort by submitting written comments on the supplemental NPRM proposal. Two substantive comments were received from the Aircraft Owners and Pilots Association (AOPA).

Discussion of Comments

The FAA received two comments to the SNPRM. An individual did not address the proposal however, commented on surrounding military operations areas that are outside the scope of this action. AOPAs comments focused on two main areas of concern: Letter of Agreement/Procedure (LOA/LOP) mitigations for general aviation aircraft and the establishment date should be effective with the VFR sectional. Having considered the issues and recommendations provided by AOPA, the FAA offers the following responses.

LOA/LOP Mitigations for General Aviation Aircraft

AOPA stated, “The SNPRM notes that the Letters of Agreement/Procedure (LOA/LOP) between the controlling agency and the using agency will offer additional mitigations and access to the Restricted Area. AOPA requests that the FAA articulate those procedures and mitigations in the Final Rule to allow General Aviation pilots to be aware of this operational flexibility. This includes understanding how FAA will coordinate to facilitate IFR and VFR access, and the procedures to let civil aircraft operating VFR know how to contact a military range controller for real-time access around actual military use.”

The FAA responds that the capability for immediate communications with Anchorage Air Route Traffic Control Center (ARTCC) and Allen Army Airfield will be included in a LOP. Under the LOP, upon receipt of “check fire” or “stop fire” instruction from an air traffic control authority, the using agency will immediately suspend hazardous activities in all segments of the restricted area. Additionally, upon confirming all hazardous activities have ceased, the using agency will inform the controlling agency (and Allen Army Airfield, if operating). The using agency will not resume hazardous activities until after receipt of a “start fire” authorization from Allen Army Airfield/Anchorage ARTCC. The using agency will release segments of R-2201 to the controlling agency when use for designated activities is not anticipated for one or more hours, or when training is complete. The using agency shall ensure the status of R-2201 is accurate and current for broadcasts on the Special Use Airspace Information System (SUAIS). SUAIS is the known standard for civil VFR pilots to inquire about active military airspace. Additionally, civil VFR aircraft can request flight following to assist with real time access to the restricted areas.

Establishment Date Should Be Effective With VFR Sectional

AOPA requested the activation of the new restricted areas should occur concurrently or after the charting of the airspace on the Sectional Charts.

The FAA concurs with AOPA and will make the new restricted areas effective in accordance with guidance to the chart on the 56-day cycle, which is October 10, 2019. However, the FAA has mandated to the using agency the new restricted areas will not be utilized until the VFR sectionals are updated November 7, 2019.

The Rule

This action amends Title 14 Code of Federal Regulations (14 CFR) part 73 by establishing restricted areas R-2201A, B, C, and D; Fort Greely, AK. Restricted areas R-2201A and R-2201C overlie the Combined Arms Collective Training Facility (CACTF), and R-2201B and R-2201D overlie the Battle Area Complex (BAX).

R-2201A: R-2201A is located approximately one nautical mile southeast of Allen Army Airfield. The designated altitudes extend from the surface to but not including 6,000 feet MSL. The time of designation is “0700-1900 local time Monday-Friday; other times by NOTAM 4 hours in advance.”

R-2201B: R-2201B is located immediately south of R-2201A. The northern boundary of R-2201B would be the same as the southern boundary of R-2201A. R-2201B extends southward to latitude 63°49′33″ N. The designated altitudes extend from the surface to but not including 6,000 feet MSL. The time of designation is “0700-1900 local time Monday-Friday; other times by NOTAM 4 hours in advance.”

R-2201C: R-2201C overlies R-2201A using the same lateral boundaries. The designated altitudes extend from 6,000 feet MSL to 11,000 feet MSL. The time of designation is “By NOTAM 4 hours in advance.”

R-2201D: R-2201D overlies R-2201B using the same lateral boundaries. The designated altitudes extend from 6,000 feet MSL to 11,000 feet MSL. The time of designation is “By NOTAM 4 hours in advance.”

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing restricted areas R-2201A, R-2201B, R-2201C, and R-2201D at Fort Greely, AK qualifies for FAA adoption in accordance with FAA Order 1050.1F, paragraph 8-2, Adoption of Other Agencies' National Environmental Policy Act Documents, and FAA Order 7400.2M, paragraph 32-2-3 (Special Use Airspace). After conducting an independent review and evaluation of the Army's Final Environmental Impact Statement (EIS) for The Modernization and Enhancement of Ranges, Airspace, and Training Areas in the Joint Pacific Alaska Range Complex in Alaska (JPARC) and Finding Of No Significant Impact, (which analyzes the impacts of establishing R-2201 at the Battle Area Complex, expanding R-2205, and modifying the legal descriptions of Buffalo, Delta 3 and Delta 4 Military Operations Areas (MOAs)), the FAA has determined that the Army's EIS, Written Re-Evaluation, and supporting documentation adequately assesses and discloses the environmental impacts of the proposed action. The Army's JPARC Final EIS was published in June 2013 and the Army/USAF Record of Decision (ROD) was issued on August 6, 2013.

Based on the evaluation in the Army's EIS, the FAA, as a Cooperating Agency, concluded that the EIS qualifies for adoption by FAA, and that the FAA's adoption is authorized in accordance with 40 CFR 1506.3, Adoption, and FAA Order 1050.1F, paragraph 8-2, Adoption of Other Agencies' NEPA Documents. Accordingly, FAA adopts the Army's EIS and takes full responsibility for the scope and content that addresses the FAA's actions associated with the establishment and modification of Special Use Airspace.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.22 Alaska (Amended)

2. § 73.22 is amended as follows:

R-2201A Fort Greely, AK [New]

Boundaries. Beginning at lat. 63°58′45″ N, long. 145°35′06″ W; to lat. 63°58′08″ N, long. 145°35′05″ W; to lat. 63°57′06″ N, long. 145°30′15″ W; to lat. 63°57′11″ N, long. 145°39′25″ W; to lat. 63°58′48″ N, long. 145°39′25″ W; to the point of beginning.

Designated altitudes. Surface to but not including 6,000 feet MSL.

Time of designation. 0700-1900 local time Monday-Friday; other times by NOTAM 4 hours in advance.

Controlling agency. FAA, Anchorage ARTCC.

Using agency. U.S. Army, AK (USARAK), Commanding General, Joint Base Elmendorf-Richardson (JBER), AK.

R-2201B Fort Greely, AK [New]

Boundaries. Beginning at lat. 63°57′06″ N, long. 145°30′15″ W; thence clockwise along a 6.3-NM radius of Allen AAF; to lat. 63°56′14″ N, long. 145°31′17″ W; to lat. 63°54′54″ N, long. 145°26′55″ W; thence south along Granite Creek;to lat. 63°49′36″ N, long. 145°34′53″ W; to lat. 63°49′36″ N, long. 145°40′45″ W; thence north along the west bank of Jarvis Creek; to lat. 63°52′14″ N, long. 145°41′49″ W; to lat. 63°52′56″ N, long. 145°42′52″ W; to lat. 63°55′01″ N, long. 145°42′52″ W; to lat. 63°56′20″ N, long. 145°39′26″ W; to lat. 63°57′11″ N, long. 145°39′25″ W; to the point of beginning.

Designated altitudes. Surface to but not including 6,000 feet MSL.

Time of designation. 0700-1900 local time Monday-Friday; other times by NOTAM 4 hours in advance.

Controlling agency. FAA, Anchorage ARTCC.

Using agency. U.S. Army, AK (USARAK), Commanding General, Joint Base Elmendorf-Richardson (JBER), AK.

R-2201C Fort Greely, AK [New]

Boundaries. Beginning at lat. 63°58′45″ N, long. 145°35′06″ W; to lat. 63°58′08″ N, long. 145°35′05″ W; to lat. 63°57′06″ N, long. 145°30′15″ W; to lat. 63°57′11″ N, long. 145°39′25″ W; to lat. 63°58′48″ N, long. 145°39′25″ W; to the point of beginning.

Designated altitudes. 6,000 feet MSL to 11,000 feet MSL.

Time of designation. By NOTAM 4 hours in advance.

Controlling agency. FAA, Anchorage ARTCC.

Using agency. U.S. Army, AK (USARAK), Commanding General, Joint Base Elmendorf-Richardson, AK (JBER), AK.

R-2201D Fort Greely, AK [New]

Boundaries. Beginning at lat. 63°57′06″ N, long. 145°30′15″ W; thence clockwise along a 6.3-NM radius of Allen AAF;to lat. 63°56′14″ N, long. 145°31′17″ W; to lat. 63°54′54″ N, long. 145°26′55″ W; thence south along Granite Creek;to lat. 63°49′36″ N, long. 145°34′53″ W; to lat. 63°49′36″ N, long. 145°40′45″ W; thence north along the west bank of Jarvis Creek; to lat. 63°52′14″ N, long. 145°41′49″ W; to lat. 63°52′56″ N, long 145°42′52″ W; to lat. 63°55′01″ N, long. 145°42′52″ W; to lat. 63°56′20″ N, long. 145°39′26″ W; to lat. 63°57′11″ N, long. 145°39′25″ W; to the point of beginning.

Designated altitudes. 6,000 feet MSL to 11,000 feet MSL.

Time of designation. By NOTAM 4 hours in advance.

Controlling agency. FAA, Anchorage ARTCC.

Using agency. U.S. Army, AK (USARAK), Commanding General, Joint Base Elmendorf-Richardson (JBER), AK.

* * * * *

Issued in Washington, DC, on August 7, 2019.
Rodger A. Dean Jr.,
Manager, Airspace Policy Group.

[FR Doc. 2019-17220 Filed 8-12-19; 8:45 am]

BILLING CODE 4910-13-P